DEPARTMENT OF AGRICULTURE

Animal and Plant Health Inspection Service

[Docket No. APHIS-2008-0115]

Notice of Request for Extension of Approval of an Information Collection; National Veterinary Accreditation Program; Correction

AGENCY: Animal and Plant Health Inspection Service, USDA.

ACTION: Notice; correction.

SUMMARY: We are correcting errors in our notice to request an extension of approval of an information collection for the national veterinary accreditation program. The notice was published in the Federal Register on November 5, 2008 (73 FR 65820-65821, Docket No. APHIS-2008-0115).

FOR FURTHER INFORMATION CONTACT: Ms. Lynn Thomas, Management Analyst, Surveillance and Identification Programs, NCAHP, VS, APHIS, 4700 River Road Unit 200, Riverdale, MD 20737; (301) 734-5777.

SUPPLEMENTARY INFORMATION: On November 5, 2008, we published in the Federal Register (73 FR 65820-65821, Docket No. APHIS-2008-0115) a notice announcing the Animal and Plant Health Inspection Service's intention to request an extension of approval of an information collection for the national veterinary accreditation program. In the notice on page 65820, under the ADDRESSES section, the Web site to submit comments and the APHIS docket number were incorrect. This document corrects those errors.

Correction

In FR Doc. E8-26385, published on November 5, 2008, on page 65820, first column, in the ADDRESSES section, make the following corrections:

1. Under Federal eRulemaking Portal, correct “http://www.regulations.gov/fdmspublic/component/main?main=DocketDetail&d=APHIS-2007-0115” to read “http://www.regulations.gov/fdmspublic/component/main?main=DocketDetail&d=APHIS-2008-0115”.

2. Under Postal Mail/Commercial Delivery, correct “APHIS-2007-0115” to read “APHIS-2008-0115” both times it occurs.

Done in Washington, DC, this 18th day of November 2008.
Kevin Shea,
Acting Administrator, Animal and Plant Health Inspection Service.

[FR Doc. E8-27849 Filed 11-21-08; 8:45 am]

BILLING CODE 3410-34-P